DEPARTMENT OF JUSTICE

Notice of Lodging of Proposed Stipulation of Settlement and Order Under the Clean Air Act

On January 18, 2017, a proposed Stipulation of Settlement and Order was lodged with the United States District Court for the Southern District of Texas in the lawsuit entitled United States v. Tauber Oil Company, Civil Action No. 4:17-cv-00153.

The United States filed this lawsuit against Tauber Oil Company (“Tauber”) alleging violations of Section 211(b) of the Clean Air Act, 42 U.S.C. 7545(b), and the regulations promulgated thereunder. The Complaint contends that Tauber sold approximately 1.9 million gallons of a product called “Mixed Alcohol” for use as a fuel additive without complying with the Clean Air Act's registration and “substantially similar” requirements. The proposed Stipulation of Settlement and Order requires Tauber to pay a civil penalty of $700,000.

The publication of this notice opens a period for public comment on the Stipulation of Settlement and Order. Comments should be addressed to the Assistant Attorney General, Environment and Natural Resources Division, and should refer to United States v. Tauber Oil Company, D.J. Ref. No. 90-5-2-1-11634. All comments must be submitted no later than thirty (30) days after the publication date of this notice. Comments may be submitted either by email or by mail in the following manner:

To submit comments: | Send them to:
By e-mail | pubcomment-ees.enrd@usdoj.gov
By mail | Assistant Attorney General, U.S. DOJ—ENRD, P.O. Box 7611, Washington, DC 20044-7611.

During the public comment period, the Stipulation of Settlement and Order may be examined and downloaded at this Justice Department Web site: https://www.justice.gov/enrd/Consent_Decrees. We will provide a paper copy upon written request and payment of reproduction costs. Please mail your request and payment to: Consent Decree Library, U.S. DOJ—ENRD, P.O. Box 7611, Washington, DC 20044-7611.

Please enclose a check or money order for $2.25 (25 cents per page reproduction cost) payable to the United States Treasury.

Robert Brook,
Assistant Chief, Environmental Enforcement Section, Environment and Natural Resources Division.

[FR Doc. 2017-01678 Filed 1-24-17; 8:45 am]

BILLING CODE 4410-15-P